DEPARTMENT OF THE INTERIOR

Bureau of Land Management

[WY-957-05-1910-BJ-5RK4]

AGENCY: Bureau of Land Management, Interior.

ACTION: Notice of filing of Plats of Survey, Wyoming.

SUMMARY: The Bureau of Land Management (BLM) is scheduled to file the plats of surveys of the lands described below thirty (30) calendar days from the date of this publication in the BLM Wyoming State Office, Cheyenne, Wyoming.

FOR FURTHER INFORMATION CONTACT: Bureau of Land Management, 5353 Yellowstone Road, P.O. Box 1828, Cheyenne, Wyoming 82003.

SUPPLEMENTARY INFORMATION: These surveys were executed at the request of the Bureau of Indian Affairs and are necessary for the managements of lands. The lands surveyed are:

The plat and field notes representing the dependent resurvey of a portion of the subdivisional lines, Township 2 North, Range 2 East, Wind River Meridian, Wyoming, was accepted June 8, 2005.

Copies of the preceding described plat and field notes are available to the public at $1.10 each.

Dated: June 8, 2005.
John P. Lee,
Chief Cadastral Surveyor, Division of Support Services.

[FR Doc. 05-11699 Filed 6-13-05; 8:45 am]

BILLING CODE 4467-22-P